FEDERAL COMMUNICATIONS COMMISSION

Notice of Public Information Collection(s) Being Submitted to OMB for Review and Approval.

July 30, 2004.

SUMMARY: The Federal Communications Commission, as part of its continuing effort to reduce paperwork burden invites the general public and other Federal agencies to take this opportunity to comment on the following information collection(s), as required by the Paperwork Reduction Act (PRA) of 1995, Pub. L. No. 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 7, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0787.

Title: Implementation of the Subscriber Carrier Selection Changes Provisions of the Telecommunications Act of 1996, Policies and Rules Concerning Unauthorized Changes of Consumers' Long Distance Carriers, CC Docket No. 94-129.

Form Number: N/A.

Type of Review: Revision of a currently approved collection.

Respondents: Individuals or household; Business or other for-profit. entities; and State, local, or tribal Government.

Number of Respondents: 35,036.

Estimated Time per Response: 1-10 hours.

Frequency of Response: Recordkeeping; On occasion and biennial reporting requirements; Third party disclosure.

Total Annual Burden: 146,794 hours.

Total Annual Cost: $51,187,500.

Privacy Impact Assessment: Yes.

Needs and Uses: On March 17, 2003, the FCC released the Third Order on Reconsideration and Second Further Notice of Proposed Rulemaking, CC Docket No. 94-129, FCC 03-42 (Third Order on Reconsideration), in which the Commission revised and clarified certain rules to implement section 258 of the 1996 Act. On May 23, 2003, the Commission also released an Order (CC Docket No. 94-129, FCC 03-116) clarifying certain aspects of the Third Order on Reconsideration. The rules and requirements implementing section 258 can be found primarily at 47 CFR part 64. The modified and revised rules will strengthen the ability of our rules to deter slamming, while protecting consumers from carriers that may take advantage of consumer confusion over different types of telecommunications services. This Third Order on Reconsideration also contains a Further Notice of Proposed Rulemaking, in which we seek comment on rule modification with respect to third party verifications. On July 16, 2004, the Commission released the First Order on Reconsideration and Fourth Order on Reconsideration, CC Docket Nos. 94-129 and 00-257, FCC 04-153 (Reconsideration Order), which the Commission modified rule 64.1120(e)(3)(iii). As noted, when subscribers are switched between carriers as a result of a negotiated sale or transfer or the exiting carrier's bankruptcy, we believe the acquiring carrier should generally be responsible for carrier change charges associated with a negotiated sale or transfer. However, while we maintain this general rule rather than adopting either SBC's or Verizon's proposed modifications, we do adopt one minor modification to the rule for particular, limited circumstances. Specifically, when an acquiring carrier acquires customers by default—other than through bankruptcy—and state law would require the exiting carrier to pay these costs, we will require the exiting carrier to pay such costs to meet our streamlined slamming rules. The change in the rule does not impose any new or modified information collection requirements. The modification to rule 47 CFR 64.1120(e)(3)(iii) does not affect the existing annual hourly and cost changes.

OMB Control Number: 3060-0966.

Title: Sections 80.385, 80.475, and 90.303, Automated Marine Telecommunications Service (AMTS).

Form Number: N/A.

Type of Review: Revision of a currently approved collection.

Respondents: Businesses or other for-profit entities, and Individuals or households.

Number of Respondents: 20.

Estimated Time per Response: 0.50 hours.

Frequency of Response: On occasion reporting requirement; Third party disclosure.

Total Annual Burden: 10 hours.

Total Annual Cost: N/A.

Privacy Impact Assessment: Yes.

Needs and Uses: The reporting and/or recordkeeping requirements are for both AMTS and amateur radio operators (or “ham operators”), who share AMTS spectrum. The Automated Maritime Telecommunications System (AMTS) is a specialized system of coast stations providing integrated and interconnected marine voice and data communications, somewhat like a cellular phone system for tugs, barges, and other vessels on these waterways. The amateur radio operators (“ham operators”) use some of the same frequencies (219-220 MHz) as AMTS stations on a secondary, non-interference basis for digital message forwarding systems. The reporting requirements, as established in 47 CFR 80.383 and 97.303, require amateur radio licensees (“ham operators”), who participate in point-to-point fixed digital message forwarding systems, such as intercity packet backbone networks, and who operate within 398 miles (640 kms) of an AMTS coast station, to notify AMTS station licensees in writing. The amateur radio licensees must give: (1) Their station's specific geographic location for the transmission, and (2) their station's technical characteristics, including transmitter type, operating frequencies, emissions, transmitter output power, and antenna arrangement. This notification must be submitted at least 30 days prior to the initiation of the amateur radio licensee's operations in the 219-220 MHz. In addition, under 47 CFR 80.475, applicants and licensees of Automated Maritime Telecommunications System (AMTS) coast stations must notify two organizations—the American Radio Relay League (ARRL) and the Interactive Systems, Inc. (ISI), of the location of the AMTS fill-in stations. ARRL and Interactive Systems, Inc. maintain databases of AMTS locations for the benefit of amateur radio operators. These notification requirements insure that any amateur radio operator seeking to commence operations within close proximity of an AMTS station will not cause any interference to an AMTS licensee. Amateur radio licensees also must give the ARRL written notification of the geographic location of a station at least 30 days prior to transmitting in the 219-220 MHz band. As a “station in a secondary service,” amateur stations must accept any harmful interference from AMTS operations. Furthermore, under 47 CFR 80.475, AMTS licensees are permitted to operate fill-in stations. While no prior FCC authorization is required to construct and operate an AMTS fill-in station, at the time the station is added, the AMTS licensee must make a record of the station's technical and administrative information, and upon request, supply such information to the FCC. The station must also send notification of the station's location to the ARRL and the ISI. In general, the notification process(es) functions without the FCC's direct involvement, except as required by 47 CFR 80.475, the AMTS station licensee must maintain a record of the station's technical and administrative functions and also provide a copy to the FCC upon request. The records of amateur radio operators include information about individuals or households, and the use(s) and disclosure of this information is governed by the requirements of a system of records, FCC/WTB-1, “Wireless Services Licensing Records.” However, the FCC makes all information about amateur radio operators publicly available on its Universal Licensing System (ULS) Web page, except that the amateur operator's telephone number(s) and his/her e-mail address(es) are redacted. The public is entitled to download this public information, although ULS does not contain the locations of the amateur radio transmitters, information which amateur radio operators (“ham operators”) have to provide to ARRL and to the AMTS licensees.

Federal Communications Commission.
Marlene H. Dortch,
Secretary.

[FR Doc. 04-18048 Filed 8-5-04; 8:45 am]

BILLING CODE 6712-01-P